DEPARTMENT OF TRANSPORTATION

Federal Aviation Administration

14 CFR Part 39

[Docket No. FAA-2005-21951; Directorate Identifier 2005-CE-39-AD; Amendment 39-14381; AD 2005-24-01]

RIN 2120-AA64

Airworthiness Directives; CENTRAIR 101 Series Gliders

AGENCY: Federal Aviation Administration (FAA), DOT.

ACTION: Final rule.

SUMMARY: The FAA adopts a new airworthiness directive (AD) for all CENTRAIR 101 series gliders. This AD requires you to make pen and ink changes to the Limitations Section of the glider maintenance manual to eliminate contradictory information concerning the structural life limit. This AD results from a review by FAA of the Limitations Section of the CENTRAIR Model 101AP glider maintenance manual that revealed conflicting information concerning the structural life limit. We are issuing this AD to assure that the published life limit is adhered to and to prevent structural failure of the glider once this life limit is reached.

DATES: This AD becomes effective on January 3, 2006.

ADDRESSES: To get the service information identified in this AD, contact CENTRAIR, Aerodome B.P.N. 44, 36300 Le Blanc, France; telephone: 02.54.37.07.96; facsimile: 02.54.37.48.64.

To view the AD docket, go to the Docket Management Facility; U.S. Department of Transportation, 400 Seventh Street, SW., Nassif Building, Room PL-401, Washington, DC 20590-001 or on the Internet at http://dms.dot.gov. The docket number is FAA-2005-21951; Directorate Identifier 2005-CE-39-AD.

FOR FURTHER INFORMATION CONTACT: Greg Davison, Aerospace Engineer, FAA, Small Directorate, 901 Locust, Room 301, Kansas City, Missouri 64106; telephone: (816) 329-4130; facsimile: (816) 329-4090.

SUPPLEMENTARY INFORMATION:

Discussion

What events have caused this AD? A review by FAA of the Limitations Section of the CENTRAIR Model 101AP glider maintenance manual revealed conflicting information concerning the structural life limit. Page 5.1 of this manual specifies inspection criteria upon accumulating 3,000 hour time-in-service (TIS). However, page 5.01 of the manual identifies a structural life limit of 3,000-hour TIS. CENTRAIR has verified that all the 101 series gliders delivered to the United States have a 3,000-hour life limit with no current extension.

Cumulative fatigue damage and fatigue cracking damage would sufficiently reduce residual strength of the airframe and result in failure of the airframe.

What is the potential impact if FAA took no action? If this situation is not corrected, the published life limit may not be adhered to and the structural integrity of the glider could be compromised.

Has FAA taken any action to this point? We issued a proposal to amend part 39 of the Federal Aviation Regulations (14 CFR part 39) to include an AD that would apply to all CENTRAIR 101 series gliders. This proposal was published in the Federal Register as a notice of proposed rulemaking (NPRM) on August 22, 2005 (70 FR 48918). The NPRM proposed to require you to make pen and ink changes to the Limitations Section of the glider maintenance manual to eliminate contradictory information concerning the structural life limit.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many gliders does this AD impact? We estimate that this AD affects 51 gliders in the U.S. registry.

What is the cost impact of this AD on owners/operators of the affected gliders? We estimate the following costs to do this change of the maintenance manual:

Labor cost | Parts cost | Total cost per glider | Total cost on U.S. operators
1 work hour × $65 = $65 | Not Applicable. | $65 | $3,315

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-21951; Directorate Identifier 2005-CE-39-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-24-01 CENTRAIR: Amendment 39-14381; Docket No. FAA-2005-21951; Directorate Identifier 2005-CE-39-AD.

When Does This AD Become Effective?

(a) This AD becomes effective on January 3, 2006.

What Other ADs Are Affected By This Action?

(b) None.

What Gliders Are Affected by This AD?

(c) This AD affects Models 101, 101A, 101AP, and 101P gliders, all serial numbers, certificated in any category.

What Is the Unsafe Condition Presented in This AD?

(d) This AD is the result of a review by FAA of the Limitations Section of the CENTRAIR Model 101AP glider maintenance manual that revealed conflicting information concerning the structural life limit. The actions specified in this AD are intended to assure that the published life limit is adhered to and to prevent structural failure of the glider once this life limit is reached.

What Must I Do To Address This Problem?

(e) To address this problem, you must do the following:

Actions | Compliance | Procedures
Using pen and ink, change Section 5.1 of the Limitations Section of the CENTRAIR Gliders CENTRAIR 101—101 P-101 A-101 AP Maintenance Manual under “General Inspection,” to read, “The general inspection should be executed every 5 years until the 3,000-hour time-in-service structural life limit is met.” The above change enforces the 3,000-hour structural life limit set out in page 5.01—Life Limits of the maintenance manual | Within the next 30 days after January 3, 2006 (the effective date of this AD) | The owner/operator holding at least a private pilot certificate as authorized by section 43.7 of the Federal Aviation Regulations (14 CFR 43.7) may modify the maintenance manual as specified in paragraph (e) of this AD. Make an entry into the aircraft records showing compliance with this portion of the AD following section 43.9 of the Federal Aviation Regulations (14 CFR 43.9).

Note: Section 5.0 of the Limitations Section of the CENTRAIR Gliders CENTRAIR 101—101 P-101 A-101 AP Maintenance Manual, date of approval, December 16, 1983, references 14 CFR 91.163. The Code of Federal Regulations has changed. The correct reference is § 91.403.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

May I Get Copies of the Document Referenced in This AD?

(g) You may obtain the service information referenced in this AD from CENTRAIR, Aerodome B.P.N. 44, 36300 Le Blanc, France; telephone: 02.54.37.07.96; facsimile: 02.54.37.48.64. To view the AD docket, go to the Docket Management Facility; U.S. Department of Transportation, 400 Seventh Street, SW., Nassif Building, Room PL-401, Washington, DC 20590-001 or on the Internet at http://dms.dot.gov. The docket number is FAA-2005-21951; Directorate Identifier 2005-CE-39-AD.

Issued in Kansas City, Missouri, on November 10, 2005.
David R. Showers,
Acting Manager, Small Airplane Directorate, Aircraft Certification Service.

[FR Doc. 05-22872 Filed 11-17-05; 8:45 am]

BILLING CODE 4910-13-P